DEPARTMENT OF DEFENSE

Department of the Air Force

HQ USAF Scientific Advisory Board

AGENCY: Department of the Air Force, DoD.

ACTION: Notice of meeting.

SUMMARY: Pursuant to Pub. L. 92-463, notice is hereby given of the forthcoming meeting of the 2003 S&T Review and the Director of Defense Research and Engineering. The purpose of the meeting is to allow the SAB leadership to advise the Director on the outcome of the 2003 Review. Because classified and contractor-proprietary information will be discussed, this meeting will be closed to the public.

DATES: May 9, 2003.

ADDRESSES: Room 4E987, the Pentagon.

FOR FURTHER INFORMATION CONTACT: Lt. Col. John Pernot, Air Force Scientific Advisory Board Secretariat, 1180 Air Force Pentagon, Rm 5D982, Washington DC 20330-1180, (703) 697-4811.

Pamela D. Fitzgerald,
Air Force Federal Register Liaison Officer.

[FR Doc. 03-11396 Filed 5-7-03; 8:45 am]

BILLING CODE 5001-05-P